NUCLEAR REGULATORY COMMISSION

[Docket No. 70-7003]

Notice of Opportunity To Request a Hearing Regarding the U.S. Enrichment Corporation Inc.'s Application for a License for the Possession and Use of Special Nuclear Material and Byproduct Material in Its American Centrifuge Lead Cascade Facility in Piketon, OH

I. Introduction

The U.S. Nuclear Regulatory Commission is considering an application submitted by the U.S. Enrichment Corporation Inc. (USEC), dated February 11, 2003, for a license to possess and use, for five years, special nuclear, source, and by-product material in the American Centrifuge Lead Cascade Facility (Lead Cascade). The Lead Cascade, which is to be located at the Portsmouth Gaseous Diffusion Plant in Piketon, Ohio, will possess up to 250 kilograms of uranium hexafluoride and will consist of up to 240 operating, full-scale centrifuge machines.

By letter dated March 13, 2003, the NRC informed USEC that based on an administrative review of the Lead Cascade license application, the NRC had found the application acceptable for technical review. However, before approving the proposed license, NRC will need to make the findings required by the Atomic Energy Act of 1954, as amended, and NRC regulations. The NRC will document its technical reviews related to radiological safety and common defense and security in a Safety Evaluation Report and its environmental safety review in an Environmental Assessment (EA). In the March 13, 2003, letter, the NRC also stated that it anticipates completing its technical reviews and issuing its decision by February 2004.

II. Opportunity To Request a Hearing

The NRC hereby provides notice that this is a proceeding on an application for a license falling within the scope of subpart L, “Informal Hearing Procedures for Adjudications in Materials and Operator Licensing Proceedings” of NRC's rules and practice for domestic licensing proceedings in 10 CFR part 2. Pursuant to § 2.1205(a), any person whose interest may be affected by this proceeding may file a request for a hearing in accordance with § 2.1205(d). A request for a hearing must be filed within 30 days of the publication of this Federal Register notice.

The request for a hearing must be filed with the Office of the Secretary, either:

(1) By delivery to the Rulemaking and Adjudications Staff of the Office of the Secretary of the Commission at One White Flint North, 11555 Rockville Pike, Rockville, MD 20852 between 7:45 a.m. and 4:15 p.m. on Federal workdays; or

(2) By mail or telegram addressed to the Secretary, U.S. Nuclear Regulatory Commission, Washington, DC 20555, Attention: Rulemaking and Adjudications Staff. Because of continuing disruptions in the delivery of mail to United States Government offices, it is requested that requests for hearing also be transmitted to the Secretary of the Commission either by means of facsimile transmission to 301-415-1101, or by e-mail to hearingdocket@nrc.gov.

In accordance with 10 CFR 2.1205(f), each request for a hearing must also be served, by delivering it personally or by mail, to:

(1) The applicant, (U.S. Enrichment Corporation Inc., 6903 Rockledge Drive, Bethesda, MD 20817-1818); Attention Mr. Steven A. Toelle; and

(2) The NRC staff, by delivery to the General Counsel, One White Flint North, 11555 Rockville Pike, Rockville, MD 20852 between 7:45 a.m. and 4:15 p.m. on Federal workdays, or by mail addressed to the Office of the General Counsel, U.S. Nuclear Regulatory Commission, Washington, DC 20555. Because of continuing disruptions in the delivery of mail to United States Government offices, it is requested that requests for hearing be also transmitted to the Office of the General Counsel, either by means of facsimile transmission to 301-415-3725, or by e-mail to OGCMailCenter@nrc.gov.

In addition to meeting other applicable requirements of 10 CFR part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

III. Further Information

For further details, the unclassified and non-proprietary portions of USEC's License application may be examined and/or copied for a fee at the NRC's Public Document Room, located at One White Flint North, 11555 Rockville Pike, Rockville, MD 20852. The references with ADAMS Accession Number ML030730232 may also be viewed in the NRC's Electronic Public Document Reading Room at http://www.nrc.gov/reading-rm/adams.html. Any questions with respect to this action should be referred to Mr. Yawar Faraz, Project Manager, Special Projects and Inspection Branch, Division of Fuel Cycle Safety and Safeguards, U.S. Nuclear Regulatory Commission, Mail Stop T-8 A33, Washington, DC 20555-0001. Telephone (301)415-8113 or e-mail yhf@nrc.gov.

Dated at Rockville, Maryland, this 3rd day of April 2003.
For the Nuclear Regulatory Commission.
Eric J. Leeds,
Deputy Director, Division of Fuel Cycle Safety and Safeguards, Office of Nuclear Material Safety and Safeguards.

[FR Doc. 03-8627 Filed 4-8-03; 8:45 am]

BILLING CODE 7590-01-P